NUCLEAR REGULATORY COMMISSION

[NRC-2013-0151; Docket Nos. 50-269, 50-270, and 50-287; License Nos. DPR-38, DPR-47, and DPR-55; EA-13-010]

In the Matter of Duke Energy Carolinas, LLC; (Oconee Nuclear Station, Units 1, 2, and 3); Confirmatory Order Modifying License

I

Duke Energy Carolinas, LLC (Duke, Licensee) is the holder of Renewed Facility Operating License Nos. DPR-38, DPR-47, and DPR-55 issued by the U.S. Nuclear Regulatory Commission (NRC) pursuant to Part 50 of Title 10 of the Code of Federal Regulations (10 CFR), “Domestic Licensing of Production and Utilization Facilities,” on May 23, 2000. The licenses authorize the operation of Oconee Nuclear Station, Units 1, 2, and 3, in accordance with the conditions specified therein. The facilities are located on the Licensee's site in Seneca, South Carolina.

II

On December 29, 2010, the NRC issued Amendment Nos. 371, 373, and 372 to Renewed Facility Operating Licenses DPR-38, DPR-47, and DPR-55, for the Oconee Nuclear Station, Units 1, 2, and 3, respectively (Agencywide Documents Access and Management System (ADAMS) Accession No. ML103630612). The amendments consisted of changes to the licenses and Technical Specifications to allow Duke to maintain a fire protection program (FPP) in accordance with 10 CFR 50.48(c). Condition 3.D, Fire Protection, Transition License Condition 1 required Duke to complete the items described in Section 2.9, Table 2.9-1, “Implementation Items,” in the NRC safety evaluation dated December 29, 2010, prior to January 1, 2013. Table 2.9-1, item 23 required completion of the analysis of non-power operation (NPO) fire impacts for fire zones following installation of the NFPA-805 committed modifications, including the Protected Service Water (PSW) modifications. Item 32 required incorporation of the PSW modification into the FPP site documents after the modification was implemented. Item 43 required confirmation that the risk decrease from the as-built PSW system continued to bound the cumulative variances from deterministic requirements (VFDR) transition risk once the PSW modifications were installed. Transition License Condition 2 required Duke to complete the items described in Section 2.8, Table 2.8.1-1, “Committed Plant Modifications,” in the NRC safety evaluation dated December 29, 2010. Item 1 of the table included implementation of the PSW modifications.

On July 31, 2012, Duke submitted a license amendment request (LAR) to extend full PSW implementation by two years, but stated that the modification to supply power from the PSW building to the Standby Shutdown Facility (SSF) would be operational by December 31, 2012. In a clarification call on November 27, 2012, Duke discussed draft milestones which would extend some items, such as installation of the PSW pumps, by at least 3 years. As of January 1, 2013, the full PSW modification had not been completed, which put Duke in violation of License Condition 3.D in all three licenses. After considering the information provided by Duke, the NRC staff denied the July 31, 2012, LAR application in a letter dated January 15, 2013. Subsequently, the NRC staff described an apparent violation to Duke by letter dated January 31, 2013. This apparent violation has been considered for escalated enforcement action in accordance with the NRC Enforcement Policy.

III

On March 5, 2013, a predecisional enforcement conference (ADAMS Accession No. ML13072A426) was conducted at the NRC headquarters in Rockville, Maryland with members of Duke's staff to discuss the apparent violation, its significance, root causes, and Duke's corrective actions. By letter dated March 11, 2013 (ADAMS Accession No. ML13079A321), and in a public meeting on April 10, 2013, Duke provided additional information on milestones Duke plans to meet while completing the installation of the PSW system. The NRC staff is issuing this Confirmatory Order to provide regulatory oversight of these milestones. The requirements needed to effectuate the foregoing are set forth in Section IV below. On June 18, 2013, the Licensee consented to the license modifications set forth in Section IV below. The Licensee further agreed that it has waived its right to a hearing on this order, and, therefore, that the terms of the Order are effective upon issuance.

I find that the license modifications set forth in Section IV are acceptable and necessary because they reduce the risk of significant damage from fire, as determined by the NRC staff in the safety evaluation for Amendment Nos. 371, 373, and 372 to Renewed Facility Operating Licenses DPR-38, DPR-47, and DPR-55. Thus, I find this order acceptable in order to ensure public health and safety. Based on the above and the Licensee's consent, this Order is effective upon issuance.

IV

In view of the foregoing and pursuant to Sections 104b, 161b, 161i, 161o, 182, and 186 of the Atomic Energy Act of 1954, as amended, and the Commission's regulations in 10 CFR 2.202 and 10 CFR part 50, it is hereby ordered, that license nos. DPR-38, DPR-47, and DPR-55 are modified as follows:

1. The licensee shall provide the capability to supply off-site electrical power to the PSW building switchgear and from there to the SSF switchgear, with sufficient capacity to operate all credited SSF equipment in the event of a failure of the SSF diesel generator during a fire for which the SSF is credited. This modification along with approved plant procedures and the completion of operator training necessary to accomplish this lineup, and a combination of testing and engineering evaluation in accordance with station procedures which verifies this capability, will be completed and operational no later than October 1, 2013.

2. The licensee shall provide the capability to supply electrical power from each of the Keowee Hydro Units to the PSW building switchgear and from there to the SSF switchgear, with sufficient capacity to operate all credited SSF equipment in the event of a failure of the SSF diesel generator during a fire for which the SSF is credited. This modification along with approved plant procedures and the completion of operator training necessary to accomplish this lineup, and a combination of testing and engineering evaluation in accordance with station procedures which verifies this capability, will be completed and operational no later than July 18, 2014.

3. The licensee shall provide the capability to supply electrical power from the PSW building switchgear to simultaneously operate at least one high-pressure injection pump per unit, and to operate the associated valves needed to align water flow to the reactor coolant pump seals and to inject water into the reactor coolant system, as an alternate path within the emergency operating procedures. This modification along with approved plant procedures and the completion of operator training necessary to accomplish this lineup, and a combination of testing and engineering evaluation in accordance with station procedures which verifies this capability, will be completed and operational no later than October 1, 2014.

4. The licensee shall have the PSW pump installed and provide the capability to supply electrical power from the PSW building switchgear to operate the PSW pump and the associated valves to provide water to the steam generators of all three units sufficient to remove decay heat following simultaneous reactor trips from 100% power, with the steam generators at the pressure corresponding to the lowest safety valve setting, as an alternate path within the emergency operating procedures. This modification along with approved plant procedures and the completion of operator training necessary to accomplish this lineup, and a combination of testing and engineering evaluation in accordance with station procedures which verifies this capability, will be completed and operational no later than June 3, 2015.

5. The licensee shall provide the capability to supply electrical power from the PSW building switchgear to those DC battery chargers that provide power to controls and instrumentation that allow PSW system control and monitoring from the control room for an extended period of time as prescribed by the NFPA-805 fire protection program approved for Oconee. The licensee shall provide electrical power from the PSW building switchgear to at least 400 kW (nameplate rating) of pressurizer heaters for each unit, and provide the ability to select the PSW power source to those pressurizer heaters from the Auxiliary Building. The licensee shall provide Auxiliary Building and Reactor Building environments suitable for equipment operation. The licensee shall provide the ability to control and monitor the high-pressure injection equipment, the PSW equipment, and the steam generator heat removal equipment from the associated Oconee control rooms. This modification along with approved plant procedures and the completion of operator training necessary to accomplish this lineup, and a combination of testing and engineering evaluation in accordance with station procedures which verifies this capability, will be completed and operational no later than February 4, 2016.

6. The licensee shall complete all items in Table 2.9-1, “Implementation Items,” of the December 29, 2010, Oconee NFPA 805 safety evaluation report no later than November 15, 2016.

7. The licensee shall provide a letter to the NRC under oath or affirmation, and in accordance with 10 CFR 50.4, “Written communications,” reporting the completion of each milestone described above, and a final letter reporting when it has achieved full compliance with the requirements contained in this Order, within 30 days of completion.

The Director, Office of Enforcement, may, in writing, relax or rescind any of the above conditions upon demonstration by the Licensee of good cause.

V

In accordance with 10 CFR 2.202, “Orders,” the licensee, under oath or affirmation, may submit a written answer to this Order within 30 days from the date of this Order. Additionally, any person adversely affected by this Order, other than Duke, may submit a written answer and/or request a hearing on this Order within 30 days from the date of this Order. Where good cause is shown, consideration will be given to extending the time to answer or request a hearing. A request for extension of time must be directed to the U.S. Nuclear Regulatory Commission, ATTN: Document Control Desk, Washington, DC 20555-0001, with a copy to Director, Office of Enforcement, U.S. Nuclear Regulatory Commission, Washington, DC 20555-0001, and include a statement of good cause for the extension.

If a hearing is requested by a person whose interest is adversely affected, the Commission will issue an Order designating the time and place of any hearings. If a hearing is held, the issue to be considered at such hearing shall be whether this Order should be sustained.

All documents filed in the NRC adjudicatory proceedings, including a request for a hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet or, in some cases, to mail copies on electronic optical storage media. Participants may not submit paper copies of their filings unless they seek an exemption in accordance with the procedures described below.

To comply with the procedural requirements associated with E-Filing, at least 10 days prior to the filing deadline the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital certificate). Based on this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for a hearing or petition for leave to intervene. Submissions should be in Portable Document Format (PDF) in accordance with the NRC guidance available on the NRC's public Web site at http://www.nrc.gov/site-help/e-submittals.html. A filing is considered complete at the time the documents are submitted through the NRC's E-filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before a hearing request/petition to intervene is filed so that they may obtain access to the document via the E-Filing system.

A person filing electronically using the NRC's adjudicatory E-Filing system may seek assistance by contacting the NRC Meta System Help Desk through the “Contact Us” link located on the NRC Web site at http://www.nrc.gov/site-help/e-submittals.html, by email to MSHD.Resource@nrc.gov, or by a toll-free call to 1-866-672-7640. The NRC Meta System Help Desk is available between 9 a.m. and 7 p.m., Eastern Time, Monday through Friday, excluding government holidays.

Participants who believe that they have good cause for not submitting documents electronically must file an extension request, in accordance with 10 CFR 2.302(g), with their initial paper filing requesting authorization to continue to submit documents in paper format. Such filings must be submitted by (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Copies shall be sent to the Director, Office of Enforcement and the Assistant General Counsel for Materials Litigation and Enforcement at the same address, the Regional Administrator, NRC Region II, Marquis One Tower, Suite 1200, 245 Peachtree Center Avenue NE., Atlanta, GA 30303, and to the Licensee, Duke Energy Carolinas, LLC, Oconee Nuclear Station, 7800 Rochester Highway, Seneca, SC 29672. Filing is considered complete by first-class mail as of the time of deposit in the mail, or by courier, express mail, or expedited delivery service upon depositing the document with the provider of the service. A presiding officer, having granted an exemption request from using E-Filing, may require a participant or party use E-Filing if the presiding officer subsequently determines that the reason for granting the exemption from use of E-Filing no longer exists.

Documents submitted in adjudicatory proceedings will appear in NRC's electronic hearing docket, which is available to the public at http://ehd1.nrc.gov/ehd, unless excluded pursuant to an Order of the Commission, an Atomic Safety and Licensing Board, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

If a person other than the licensee requests a hearing, that person shall set forth with particularity the manner in which his or her interest is adversely affected by this Order and shall address the criteria set forth in 10 CFR 2.309(d) and (f).

In the absence of any request for hearing or written approval of an extension of time in which to request a hearing, the provisions specified in Section IV above shall be final 30 days from the date of this Order without further order or proceedings. If an extension of time for requesting a hearing has been approved, the provisions specified in Section IV shall be final when the extension expires if a hearing request has not been received.

Dated this 1st day of July 2013.
For the Nuclear Regulatory Commission.
Roy Zimmerman,
Director, Office of Enforcement.

[FR Doc. 2013-16588 Filed 7-9-13; 8:45 am]

BILLING CODE 7590-01-P